NUCLEAR REGULATORY COMMISSION

[NRC-2015-0001]

Sunshine Act Meeting Notice

DATE: May 18, 25, June 1, 8, 15, 22, 2015.

PLACE: Commissioners' Conference Room, 11555 Rockville Pike, Rockville, Maryland.

STATUS: Public and Closed.

Week of May 18, 2015

Tuesday, May 19, 2015

9:00 a.m. Briefing on Cumulative Effects of Regulation and Risk Prioritization Initiatives (Public Meeting); (Contact: Steve Ruffin, 301-415-1985)

This meeting will be webcast live at the Web address— http://www.nrc.gov/.

Thursday, May 21, 2015

9:00 a.m. Briefing on the Results of the Agency Action Review Meeting (Public Meeting); (Contact: Nathan Sanfilippo, 301-415-8744)

This meeting will be webcast live at the Web address— http://www.nrc.gov/.

Week of May 25, 2015—Tentative

There are no meetings scheduled for the week of May 25, 2015.

Week of June 1, 2015—Tentative

There are no meetings scheduled for the week of June 1, 2015.

Week of June 8, 205—Tentative

Tuesday, June 9, 2015

9:30 a.m. Briefing on NRC Insider Threat Program (Closed—Ex. 1 & 2)

Thursday, June 11, 2015

10:00 a.m. Meeting with the Advisory Committee on Reactor Safeguards (Public Meeting); (Contact: Edwin Hackett, 301-415-7360)

This meeting will be webcast live at the Web address— http://www.nrc.gov/.

Week of June 15, 2015—Tentative

There are no meetings scheduled for the week of June 15, 2015.

Week of June 22, 2015—Tentative

Tuesday, June 23

9:00 a.m. Briefing on Human Capital and Equal Employment Opportunity (Public Meeting); (Contact: Dafna Silberfeld, 301-287-0737)

This meeting will be webcast live at the Web address— http://www.nrc.gov/.

Thursday, June 25, 2015

9:00 a.m. Briefing on Proposed Revisions to Part 10 CFR part 61 and Low-Level Radioactive Waste Disposal (Public Meeting); (Contact: Gregory Suber, 301-415-8087)

This meeting will be webcast live at the Web address— http://www.nrc.gov/.

* * * * *

The schedule for Commission meetings is subject to change on short notice. For more information or to verify the status of meetings, contact Glenn Ellmers at 301-415-0442 or via email at Glenn.Ellmers@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: May 13, 2015.
Glenn Ellmers,
Policy Coordinator, Office of the Secretary.

[FR Doc. 2015-12044 Filed 5-14-15; 11:15 am]

BILLING CODE 7590-01-P